DEPARTMENT OF TRANSPORTATION

Federal Aviation Administration

14 CFR Part 61

[Docket No. FAA-2010-0100; Amdt. Nos. 61-130A]

RIN 2120-AJ67

Pilot Certification and Qualification Requirements for Air Carrier Operations; Correction

AGENCY: Federal Aviation Administration, DOT.

ACTION: Final rule; correction.

SUMMARY: The FAA is correcting a final rule published on July 15, 2013 (78 FR 42324). In that rule, which became effective on July 15, 2013, the date of publication, the FAA amended its regulations to create new certification and qualification requirements for pilots in air carrier operations. This document corrects errors in the regulatory text of that document.

DATES: Effective: July 25, 2013.

FOR FURTHER INFORMATION CONTACT: For technical questions concerning this correction contact Barbara Adams, Air Transportation Division, AFS-200, Federal Aviation Administration, 800 Independence Avenue SW., Washington, DC 20591; telephone (202) 267-8166; facsimile (202) 267-5299, email barbara.adams@faa.gov.

For legal questions concerning this correction contact Anne Moore, Office of the Chief Counsel—International Law, Legislation, and Regulations Division, AGC-240, Federal Aviation Administration, 800 Independence Avenue SW., Washington, DC 20591; telephone (202) 267-3123; facsimile (202) 267-7971, email anne.moore@faa.gov.

SUPPLEMENTARY INFORMATION:

Background

On July 15, 2013, the FAA published a final rule entitled, “Pilot Certification and Qualification Requirements for Air Carrier Operations” (78 FR 42324). In that final rule, which became effective July 15, 2013, the FAA revised the aeronautical experience requirements for an airline transport pilot (ATP) certificate in § 61.159(a) by adding paragraph (a)(3) which requires pilots to obtain 50 hours in the class of airplane for the ATP certificate sought and by revising former paragraph (a)(5) to permit pilots to credit time in a flight simulation training device (FSTD) accomplished in approved training programs under parts 121, 135, and 141 toward the aeronautical experience requirements for the ATP certificate. Under the prior rule, only FSTD time accomplished as part of an approved training course in part 142 could be credited.

Correction

In the amendatory language, the FAA mistakenly directed that redesignated paragraph (a)(5) be revised to permit the FSTD time in parts 121, 135, and 141 to be credited. In fact, because the final rule added new paragraph (a)(3), the amendatory language should have directed that redesignated paragraph (a)(6) should be revised. Accordingly, the FAA is issuing this correction to restore former paragraph (a)(4) ¹ which was inadvertently removed from the final rule.

¹ Former § 61.159(a)(4) [new paragraph (a)(5)] pertains to pilot in command flight time requirements.

List of Subjects in 14 CFR Part 61

Aircraft, Airmen, Aviation safety.

The Correcting Amendment

In consideration of the foregoing, the Federal Aviation Administration chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 45102-45103, 45301-45302.

2. Amend § 61.159 as follows:

A. Remove paragraph (a)(6);

B. Redesignate paragraph (a)(5) as (a)(6); and

C. Add a new paragraph (a)(5).

The addition reads as follows:

§ 61.159 Aeronautical experience: Airplane category rating.

(a) * * *

(5) 250 hours of flight time in an airplane as a pilot in command, or as second in command performing the duties of pilot in command while under the supervision of a pilot in command, or any combination thereof, which includes at least—

(i) 100 hours of cross-country flight time; and

(ii) 25 hours of night flight time.

* * * * *

Issued in Washington, DC under the authority provided by 49 U.S.C. 106(f), 44701(a) and Secs. 216-217, Public Law 111-216, 124 Stat. 2348 on July 19, 2013.
Lirio Liu,
Director, Office of Rulemaking.

[FR Doc. 2013-17811 Filed 7-24-13; 8:45 am]

BILLING CODE 4910-13-P